FEDERAL RESERVE SYSTEM

Formations of, Acquisitions by, and Mergers of Savings and Loan Holding Companies

The companies listed in this notice have applied to the Board for approval, pursuant to the Home Owners' Loan Act (12 U.S.C. 1461 et seq.) (HOLA), Regulation LL (12 CFR part 238), and Regulation MM (12 CFR part 239), and all other applicable statutes and regulations to become a savings and loan holding company and/or to acquire the assets or the ownership of, control of, or the power to vote shares of a savings association.

The applications listed below are available for immediate inspection at the Federal Reserve Bank indicated. The applications also will be available for inspection at the offices of the Board of Governors. Interested persons may express their views in writing on whether the proposed transaction complies with the standards enumerated in the HOLA (12 U.S.C. 1467a(e)).

Unless otherwise noted, comments regarding each of these applications must be received at the Reserve Bank indicated or the offices of the Board of Governors Ann E. Misback, Secretary of the Board, 20th Street and Constitution Avenue NW, Washington, DC 20551-0001, not later than July 6, 2020.

A. Federal Reserve Bank of Chicago (Colette A. Fried, Assistant Vice President) 230 South LaSalle Street, Chicago, Illinois 60690-1414:

1. Hoyne Savings, MHC and Hoyne Financial Corporation, both of Chicago, Illinois; to acquire control of Loomis Federal Savings and Loan Association, Chicago, Illinois. Additionally, for Hoyne Savings, MHC to acquire control of the newly-formed Hoyne Interim Bank, to be located in Chicago, Illinois, and for Hoyne Savings, MHC to transfer to its subsidiary, Hoyne Financial Corporation, ownership of Hoyne Interim Bank. Under the proposal, Hoyne Savings, MHC would form an interim Illinois-chartered stock savings bank, Hoyne Interim Bank. Immediately therafter, Loomis Federal Savings and Loan Association and Hoyne Savings Bank, Chicago, Illinois, the existing subsidiary savings association of Hoyne Savings, MHC and Hoyne Financial Corporation, would each merge with and into Hoyne Interim Bank. Hoyne Interim Bank would be the surviving institution and would be renamed “Hoyne Savings Bank.”

Board of Governors of the Federal Reserve System, May 29, 2020.
Yao-Chin Chao,
Assistant Secretary of the Board.

[FR Doc. 2020-11998 Filed 6-3-20; 8:45 am]

BILLING CODE P